DEPARTMENT OF COMMERCE

International Trade Administration

Agency Information Collection Activities; Submission to the Office of Management and Budget (OMB) for Review and Approval; Comment Request; Domestic and International Client Export Services and Customized Forms Renewal

AGENCY: International Trade Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 15, 2025.

ADDRESSES: Interested persons are invited to submit written comments to Katelynn Byers, PRA Process Administrator by email, Katelynn.Byers@trade.gov or PRA@trade.gov. Please refer to OMB Control Number 0625-0143 in the subject line of your comments. Do not submit Confidential Business Information or otherwise sensitive or protected information.

FOR FURTHER INFORMATION CONTACT: Requests for additional information or specific questions related to collection activities should be directed to Katelynn Byers, PRA Process Administrator by phone, 202-989-5979, and by email, Katelynn.Byers@trade.gov.

SUPPLEMENTARY INFORMATION:

I. Abstract

The International Trade Administration's (ITA) is mandated by Congress to broaden and deepen the U.S. exporter base and to attract inward foreign direct investment. It accomplishes this by providing counseling, programs and services to help U.S. organizations export and conduct business in overseas markets. This information collection package enables ITA to provide appropriate global trade services to U.S. businesses and international buyers.

ITA offers a variety of services to enable clients to begin exporting and global trade or to expand existing export and global trade efforts. Clients may learn about available services from business related entities such as the National Association of Manufacturers, Federal Express, State Economic Development offices, the internet or word of mouth. ITA provides a standard set of services to assist clients with identifying potential overseas partners, establishing meeting programs with appropriate overseas business contacts and providing due diligence reports on potential overseas business partners. ITA also provides other global trade related services considered to be of a “customized nature” because they do not fit into the standard set of services but are driven by unique business needs of individual clients.

The dissemination of international market information and potential business opportunities for U.S. companies interested and actively exporting and conducting business globally are critical components of the ITA's global trade assistance programs and services. U.S. companies are able to conveniently access and indicate their interest in services by completing the appropriate forms via multiple ways, including via a website (e.g. trade.gov), web-based survey or form links, or paper-based forms.

ITA works closely with clients to educate them about the exporting/importing process and to help prepare them for global trading opportunities. When a client is ready to begin the process the field staff provide counseling to assist in the development of a global trade strategy. ITA provides fee-based, global trade related services designed to help a client's business presence internationally. The type of service that is offered to a client depends upon a client's business goals and where they are in the export/import process. Some clients are at the beginning of the process and require assistance with identifying potential distributors, whereas other clients may be ready to sign a contract with a potential distributor and require due diligence assistance.

Before ITA can provide global trade and export-related services to clients, such as assistance with identifying potential partners or providing due diligence, specific information is required to determine the client's business objectives and needs. For example, before ITA can provide a service to identify potential business partners, information is needed regarding if the client would like a potential partner to have specific technical qualifications, coverage in a specific market, English or foreign language ability or warehousing requirements. This information collection is designed to elicit such data so that appropriate services can be proposed and conducted to most effectively meet the client's global trading goals. Without these forms ITA is unable to provide services when requested by clients.

The forms ask U.S. businesses standard questions about their company details, demographic information, export/import experience, information about the products or services they wish to export/import and their goals. A few questions are tailored to a specific program type and will vary slightly with each program. ITA staff use this information to gain an understanding of clients' needs and objectives so that they can provide appropriate and effective assistance tailored to each U.S. business' particular global trade requirements.

II. Method of Collection

Clients will be asked to provide their information in multiple ways, including via a website (e.g. trade.gov), web-based survey or form links, or paper-based forms.

III. Data

OMB Control Number: 0625-0143.

Form Number(s): None.

Type of Review: Regular submission, revision of a current information collection.

Affected Public: Business or other for-profit organizations; Not-for-profit institutions; State, Local, or Tribal government.

Estimated Number of Respondents: 200,000.

Estimated Time per Response: 10 minutes.

Estimated Total Annual Burden Hours: 34,133 hours.

Estimated Total Annual Cost to Public: $1,030,485.

Respondent's Obligation: Voluntary.

Legal Authority: U.S. Code: 15 U.S.C. 4724.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-13320 Filed 7-15-25; 8:45 am]

BILLING CODE 3510-25-P